POSTAL SERVICE

Board of Governors; Sunshine Act Meeting

DATES AND TIMES: October 15, 2012, at 4:00 p.m., and October 16, 2012, at 8:00 a.m.

PLACE: New York, New York.

STATUS: Closed.

MATTERS TO BE CONSIDERED:

Monday, October 15, 2012 at 4:00 p.m.

1. Strategic Issues.

Tuesday, October 16, 2012 at 8:00 a.m.

1. Strategic Issues, continued.

2. Financial Matters.

3. Pricing.

4. Personnel Matters and Compensation Issues.

5. Governors' Executive Session—Discussion of prior agenda items and Board Governance.

CONTACT PERSON FOR MORE INFORMATION: Julie S. Moore, Secretary of the Board, U.S. Postal Service, 475 L'Enfant Plaza SW., Washington, DC 20260-1000. Telephone (202) 268-4800.

Julie S. Moore,
Secretary.

[FR Doc. 2012-24279 Filed 9-28-12; 11:15 am]

BILLING CODE 7710-12-P